DEPARTMENT OF ENERGY

Federal Energy Regulatory Commission

Combined Notice of Filings #1

April 29, 2010.

Take notice that the Commission received the following electric corporate filings:

Docket Numbers: EC10-61-000.

Applicants: AER NY-Gen, LLC, AG-Energy, LP, Eagle Creek Hydro Power, LLC, Eagle Creek Water Resources, LLC, Eagle Creek Land Resources, LLC, Eagle Creek Ogdensburg (LP), LLC, Eagle Creek Ogdensburg (GP), LLC, Hudson M3, LLC.

Description: Application for Authorization for Disposition of Jurisdictional Facilities, Request for Confidential Treatment, and Request for Expedited Consideration of AG-Energy, L.P., et. al.

Filed Date: 04/28/2010.

Accession Number: 20100428-5189.

Comment Date: 5 p.m. Eastern Time on Wednesday, May 19, 2010.

Docket Numbers: EC10-62-000.

Applicants: Meadow Lake Wind Farm II LLC.

Description: Application for authorization for disposition of jurisdictional facilities and request for expedited action of Meadow Lake Wind Farm II LLC.

Filed Date: 04/28/2010.

Accession Number: 20100428-5218.

Comment Date: 5 p.m. Eastern Time on Wednesday, May 19, 2010.

Take notice that the Commission received the following electric rate filings:

Docket Numbers: ER01-1099-014; ER02-1406-015; ER99-2928-011.

Applicants: Cleco Power LLC; Acadia Power Partners, LLC; Cleco Evangeline LLC.

Description: Cleco Power LLC et. al. submits amendment to their notice of non-material change in status and include the information requested by Commission Staff as Exhibit I.

Filed Date: 04/28/2010.

Accession Number: 20100429-0039.

Comment Date: 5 p.m. Eastern Time on Wednesday, May 19, 2010.

Docket Numbers: ER08-1113-007.

Applicants: California Independent System Operator Corporation.

Description: California Independent System Operator Corporation submits 4/1/2010 Order on Compliance filing on the proceeding.

Filed Date: 04/28/2010.

Accession Number: 20100428-0217.

Comment Date: 5 p.m. Eastern Time on Wednesday, May 19, 2010.

Docket Numbers: ER10-842-001.

Applicants: Energy Plus Holdings LLC.

Description: Energy Plus Holdings LLC submits substitute FERC Electric Tariff Volume 1, which adds information to the footer of the tariff.

Filed Date: 04/28/2010.

Accession Number: 20100428-0213.

Comment Date: 5 p.m. Eastern Time on Wednesday, May 12, 2010.

Docket Numbers: ER10-1114-000.

Applicants: Illinois Power Company.

Description: Illinois Power Company submits tariff filing per 35.12: Illinois Power General Tariff, to be effective 4/29/2010.

Filed Date: 04/29/2010.

Accession Number: 20100429-5000.

Comment Date: 5 p.m. Eastern Time on Thursday, May 20, 2010.

Docket Numbers: ER10-1115-000.

Applicants: PECO Energy Company.

Description: PECO Energy Co submits the Transmission Interconnection Agreement with Public Service Electric and Gas Co.

Filed Date: 04/28/2010.

Accession Number: 20100429-0204.

Comment Date: 5 p.m. Eastern Time on Wednesday, May 19, 2010.

Docket Numbers: ER10-1116-000.

Applicants: PECO Energy Company.

Description: Public Service Electric and Gas Company submits Notices of Cancellation of two agreements on file with FERC etc.

Filed Date: 04/28/2010.

Accession Number: 20100429-0203.

Comment Date: 5 p.m. Eastern Time on Wednesday, May 19, 2010.

Docket Numbers: ER10-1117-000.

Applicants: Evergreen Wind Power V, LLC.

Description: Evergreeen Wind Power V, LLC et al. submits a Shared Facilities and Sublease Agreement, as amended between Evergreen Wind Power V and Stetson Wind II.

Filed Date: 04/28/2010.

Accession Number: 20100429-0202.

Comment Date: 5 p.m. Eastern Time on Wednesday, May 19, 2010.

Docket Numbers: ER10-1118-000.

Applicants: Southwest Power Pool, Inc.

Description: Southwest Power Pool, Inc. submits an executed Meter Agent Services Agreement with the Municipal Energy Agency of Nebraska.

Filed Date: 04/28/2010.

Accession Number: 20100429-0201.

Comment Date: 5 p.m. Eastern Time on Wednesday, May 19, 2010.

Docket Numbers: ER10-1119-000.

Applicants: Central Illinois Public Service Company.

Description: Central Illinois Public Service Company submits tariff filing per 35.12: Central Illinois Public Service Company General Tariff to be effective 4/30/2010.

Filed Date: 04/29/2010.

Accession Number: 20100429-5041.

Comment Date: 5 p.m. Eastern Time on Thursday, May 20, 2010.

Docket Numbers: ER10-1120-000.

Applicants: Competitive Energy.

Description: Competitive Energy submits tariff filing per 35.12: MBR Filing to be effective 8/1/2001.

Filed Date: 04/29/2010.

Accession Number: 20100429-5049.

Comment Date: 5 p.m. Eastern Time on Thursday, May 20, 2010.

Docket Numbers: ER10-1121-000.

Applicants: Beaver Ridge Wind, LLC.

Description: Beaver Ridge Wind, LLC submits tariff filing per 35.12: Market Based Rate Authorization to be effective 7/1/2008.

Filed Date: 04/29/2010.

Accession Number: 20100429-5050.

Comment Date: 5 p.m. Eastern Time on Thursday, May 20, 2010.

Docket Numbers: ER10-1122-000.

Applicants: Hannaford Energy LLC.

Description: Hannaford Energy LLC submits tariff filing per 35.12: Market Rate Baseline to be effective 3/8/2010.

Filed Date: 04/29/2010.

Accession Number: 20100429-5053.

Comment Date: 5 p.m. Eastern Time on Thursday, May 20, 2010.

Docket Numbers: ER10-1123-000.

Applicants: Union Electric Company.

Description: Union Electric Company submits tariff filing per 35.12: Union Electric General Tariff to be effective 4/30/2010.

Filed Date: 04/29/2010.

Accession Number: 20100429-5091.

Comment Date: 5 p.m. Eastern Time on Thursday, May 20, 2010.

Docket Numbers: ER10-1124-000.

Applicants: Central Illinois Light Company.

Description: Central Illinois Light Company submits tariff filing per 35.12: Central Illinois Light Company General Tariff to be effective 4/30/2010.

Filed Date: 04/29/2010.

Accession Number: 20100429-5123.

Comment Date: 5 p.m. Eastern Time on Thursday, May 20, 2010.

Docket Numbers: ER10-1128-000.

Applicants: Commonwealth Edison Company.

Description: Commonwealth Edison Company submits tariff filing per 35.12: PSRT Baseline Filing to be effective 4/29/2010.

Filed Date: 04/29/2010.

Accession Number: 20100429-5134.

Comment Date: 5 p.m. Eastern Time on Thursday, May 20, 2010.

Take notice that the Commission received the following electric securities filings:

Docket Numbers: ES10-37-000.

Applicants: Old Dominion Electric Cooperative, Inc.

Description: Application of Old Dominion Electric Cooperative for Authorization to Issue Long-Term Debt and Request for Exemption from Competitive Bidding Requirements.

Filed Date: 04/29/2010.

Accession Number: 20100429-5024.

Comment Date: 5 p.m. Eastern Time on Thursday, May 20, 2010.

Docket Numbers: ES10-38-000.

Applicants: KCP&L Greater Missouri Operations Company.

Description: Application KCP&L Greater Missouri Operations Company for Authorization of Issuance of Long-Term Debt Securities Under Section 204 of the Federal Power Act.

Filed Date: 04/29/2010.

Accession Number: 20100429-5136.

Comment Date: 5 p.m. Eastern Time on Thursday, May 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St.,NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-10804 Filed 5-6-10; 8:45 am]

BILLING CODE 6717-01-P